DEPARTMENT OF THE TREASURY

Office of Foreign Assets Control

Sanctions Actions Pursuant to Executive Order 13660

AGENCY: Office of Foreign Assets Control, Treasury.

ACTION: Notice.

SUMMARY: The Treasury Department's Office of Foreign Assets Control (OFAC) is publishing the names of six persons whose property and interests in property are blocked pursuant to Executive Order (E.O.) 13660.

DATES: OFAC's actions described in this notice were effective on November 14, 2016, as further specified below.

FOR FURTHER INFORMATION CONTACT: The Department of the Treasury's Office of Foreign Assets Control: Assistant Director for Licensing, tel.: 202-622-2480, Assistant Director for Regulatory Affairs, tel.: 202-622-4855, Assistant Director for Sanctions Compliance & Evaluation, tel.: 202-622-2490; or the Department of the Treasury's Office of the Chief Counsel (Foreign Assets Control), Office of the General Counsel, tel.: 202-622-2410.

SUPPLEMENTARY INFORMATION:

Electronic Availability

The Specially Designated Nationals and Blocked Persons List and additional information concerning OFAC sanctions programs are available on OFAC's Web site (www.treas.gov/ofac).

Notice of OFAC Actions

On November 14, 2016, OFAC blocked the property and interests in property of the following persons pursuant to E.O. 13660, “Blocking Property of Certain Persons Contributing to the Situation in Ukraine”:

Individuals

1. BAKHAREV, Konstantin Mikhailovich; DOB 20 Oct 1972; POB Ukraine; Gender Male (individual) [UKRAINE-EO13660].

2. BALBEK, Ruslan Ismailovich; DOB 28 Aug 1977; POB Uzbekistan; Gender Male (individual) [UKRAINE-EO13660].

3. BELIK, Dmitry Anatolievich; DOB 17 Oct 1969; POB Russia; Gender Male (individual) [UKRAINE-EO13660].

4. KOZENKO, Andrey Dmitrievich; DOB 03 Aug 1981; POB Ukraine Gender Male (individual) [UKRAINE-EO13660].

5. SAVCHENKO, Svetlana Borisovna; DOB 24 Jun 1965; POB Ukraine Gender Female (individual) [UKRAINE-EO13660].

6. SHPEROV, Pavel Valentinovich; DOB 04 Jul 1971; POB Ukraine; Gender Male (individual) [UKRAINE-EO13660].

Dated: November 14, 2016.
John E. Smith,
Acting Director, Office of Foreign Assets Control.

[FR Doc. 2016-27736 Filed 11-17-16; 8:45 am]

BILLING CODE 4810-AL-P